ENVIRONMENTAL PROTECTION AGENCY

[ER-FRL-6666-9]

Environmental Impacts Statements; Notice of Availability

Responsible Agency: Office of Federal Activities, General Information (202) 564-7167 or http://www.epa.gov/compliance/nepa/.

Weekly receipt of Environmental Impact Statements Filed 08/22/2005 Through 08/26/2005. Pursuant to 40 CFR 1506.9.

EIS No. 20050351, Draft EIS, SFW, CA, East Contra Costa County Habitat Conservation Plan and Natural Community Conservation Plan, Implementation, Incidental Take Permit, Cities of Brentwood, Clayton, Oakley and Pittsburg, Contra Costa County, CA, Comment Period Ends: 10/17/2005, Contact: Sheila Larsen 916-444-6600.

EIS No. 20050352, Final Supplement, NPS, WA, Elwha River Ecosystem Restoration Implementation Project, Update Information, Olympic Peninsula, Challam County, WA, Wait Period Ends: 10/03/2005, Contact: Brian Winter 360-565-1320.

EIS No. 20050353, Draft EIS, FHW, NY, Willis Avenue Bridge Reconstruction, Proposing Reconstruction of 100-year old Willis Avenue Bridge over the Harem River between Manhattan and the Bronx, New York and Bronx Counties, NY, Comment Period Ends: 10/28/2005, Contact: Robert Arnold 518-431-4125.

EIS No. 20050354, Draft EIS, UAF, 00, Shaw Air Base Airspace Training Initiative (ATI), 20th Fighter Wing Proposal to Modify the Training Airspace Overlying Parts, South Carolina and Georgia, Comment Period Ends: 10/17/2005, Contact: Linda A. DeVine 757-764-9434.

EIS No. 20050355, Draft EIS, COE, LA, Port of Iberia Project, To Determine the Feasibility of Deepening the Existing Navigation Channels between the POI and the Gulf of Mexico, Portions of the Gulf Intracoastal Waterway (GIWW) and Freshwater Bayou (FWB), LA, Comment Period Ends: 10/17/2005, Contact: Michael Salyer 504-862-2037.

EIS No. 20050356, Draft EIS, FRC, TX, Port Arthur Liquefield Natural Gas (LNG) Project, Construction and Operation, U.S. Army COE Section 10 and 404 Permits, (FERC/EIS-0182D), Jefferson and Orange Counties TX and Cameron, Calcasieu and Beauregard Parishes, LA, Comment Period Ends: 10/17/2005, Contact: Thomas Russo 1-866-208-FERC.

Amended Notices

EIS No. 20050342, Draft EIS, NOA, 00, Consolidated Atlantic Highly Migratory Species Fishery Management Plan for Atlantic Tunas, Swordfish, and Shark and the Atlantic Billfish Fishery Management Plan, Implementation, Atlantic Coast, Caribbean and Gulf of Mexico, Comment Period Ends: 10/18/2005, Contact: Karyl Brewster Geisz 301-713-2347 Revision of Notice Published in FR: 08/19/2005. Correction to Comment Period from 10/03/2005 to 10/18/2005.

Dated: August 30, 2005.
Robert W. Hargrove,
Director, NEPA Compliance Division, Office of Federal Activities.

[FR Doc. 05-17541 Filed 9-1-05; 8:45 am]

BILLING CODE 6560-50-P